DEPARTMENT OF EDUCATION

[CFDA No. 84.305J]

Office of Educational Research and Improvement (OERI): Preschool Curriculum Evaluation Research Grant Program Notice Inviting Applications for New Awards for Fiscal Year (FY) 2002

Purpose of Program: The purpose of this program is to implement rigorous evaluations of preschool curricula that will provide information to support informed choices of classroom curricula for early childhood programs. This competition will focus support on a new program of research that will determine, through randomized clinical trials, whether one or more curricula produce educationally meaningful effects on children.

Eligible Applicants: Public and private agencies, institutions, and organizations, including for-profit and non-profit organizations; institutions of higher education; State and local education agencies; and regional educational laboratories.

Deadline for Receipt of Letter of Intent: January 15, 2002.

A Letter of Intent is optional, but encouraged, for each application. The Letter of Intent is for OERI planning purposes and will not be used in the evaluation of the application.

Applications Available: December 17, 2001.

Deadline for Transmittal of Applications: March 15, 2002.

Estimated Available Funds: Up to $4,000,000 for the first year of this program.

The estimated amount of funds available for new awards is based on the Administration's request for this program for FY 2002. The actual level of funding, if any, depends on final congressional action. However, we are inviting applications to allow enough time to complete the grant process if Congress appropriates funds for this program.

Estimated Size of Awards: Funds available per award will depend on the sample size, the nature of the supplemental research proposed, and any non-federal resources to be devoted to the project. We expect to be able to make about 10 awards and that a typical first year award, with the minimal sample size, described subsequently, will be approximately $350,000.

Estimated Number of Awards: 10.

Note: The Department is not bound by any estimates in this notice.

Project Period: Up to 48 months.

Page Limits: The application must include the following sections: title page form (ED 424), one-page abstract, research narrative, literature cited, curriculum vitae for principal investigator(s) and other key personnel, budget summary form (ED 524) with budget narrative, appendix, and statement of equitable access (GEPA 427). The research narrative is where you, the applicant, address the selection criteria that reviewers use to evaluate your application. You must limit the research narrative (text plus all figures, charts, tables, and diagrams) to the equivalent of 25 pages and the appendix to 20 pages, using the following standards:

• A “page” is 8.5″ x 11″, on one side only, with 1″ margins at the top, bottom, and both sides.

• Double space (no more than three lines per vertical inch) all text in the research narrative, including titles, headings, footnotes, quotations, references, and captions, as well as all text in charts, tables, figures, and graphs.

• Use a font that is either 12-point or larger or no smaller than 10 pitch (characters per inch).

The page limit does not apply to the title page form, the one-page abstract, the budget summary form and narrative budget justification, the curriculum vitae, literature cited, or the assurances and certifications.

Our reviewers will not read any pages of your application that—

• Exceed the page limit if you apply these standards; or

• Exceed the equivalent of the page limit if you apply other standards.

We have found that reviewers are able to conduct the highest quality review when applications are concise and easy to read, with pages consecutively numbered.

Applicable Statute and Regulations: (a) 20 U.S.C. 6031; (b) The Education Department General Administrative Regulations (EDGAR) in 34 CFR parts 74, 75 (except as limited in 34 CFR 700.5), 77, 80, 81, 82, 85, 86 (part 86 applies only to Institutions of Higher Education), 97, 98, and 99; and (c) The regulations in 34 CFR part 700.

Selection Criteria: The Secretary selects the following selection criteria in 34 CFR 700.30(e) to evaluate applications for new grants under this competition. The criteria below will receive the following percentage weights.

(a) National Significance (.2)

(b) Quality of the Project Design (.5)

(c) Quality and Potential Contributions of Personnel (.2)

(d) Adequacy of Resources (.1)

Strong applications for Preschool Curriculum Evaluation Research (PCER) grants clearly address each of the applicable selection criteria. They make a well-reasoned and compelling case for the national significance of the problems or issues that will be the subject of the proposed research, and present a research design that is complete, clearly delineated, and incorporates sound research methods. In addition, the personnel descriptions included in strong applications make it apparent that the project director, principal investigator, and other key personnel possess training and experience commensurate with their duties.

Pre-Application Meeting: We will hold a pre-application meeting on January 24, 2002, to discuss the funding priority. You are invited to participate. You will receive technical assistance and information about the funding priority. The meeting will be held at the U.S. Department of Education, Office of Educational Research and Improvement, 555 New Jersey Avenue, NW., room 101, Washington, DC, between 1 p.m. and 4 p.m. A summary of the meeting will be posted on the Internet at: http://www.ed.gov/offices/OERI

Assistance to Individuals With Disabilities at the Meeting

The meeting site is accessible to individuals with disabilities. If you will need an auxiliary aid or service to participate in the meeting (e.g., interpreting service, assistive listening device, or materials in an alternate format), notify the contact person listed under FOR APPLICATIONS AND FURTHER INFORMATION CONTACT at least two weeks before the scheduled meeting date. Although we will attempt to meet a request we receive after that date, we may not be able to make available the requested auxiliary aid or service because of insufficient time to arrange it.

SUPPLEMENTARY INFORMATION:

Background

Research has long established the importance of early experiences in supporting successful child development. More recently, the focus has turned to the role of early child-care and preschool experiences in supporting cognitive development and other skills that are essential for successful transition into school. Policy makers have begun to respond to the mounting evidence of the importance of early experience with calls to provide better quality preschool programs. For example, The National Research Council's 2000 report, Eager to Learn, concluded that: “Many children, especially those in low-income households, are served in child care programs of such low quality that learning and development are not enhanced and may even be jeopardized.” Furthermore, the First Lady's White House Summit on Early Childhood Cognitive Development, held in 2001, called attention to the need for preschool programs to enhance their instructional content in the area of early cognition and pre-reading skills. One result of the Early Childhood Cognitive Development Summit was the formation of an Interagency Task Force in Early Childhood Development involving representatives from the U.S. Department of Education, Health and Human Services, and the National Institute of Child Health and Human Development. This funding announcement is one product of that Task Force.

The evidence that would allow informed choices of classroom curricula for early childhood programs is weak. When rigorous preschool program evaluations exist, they are for programs designed and delivered decades ago. Most currently available curricula have no link to those historical programs, and those that do have changed in content and method of delivery as they have evolved over the years. While the results from historical evaluations of preschool curricula and current research on the learning and development of young children provide some insights into general features of successful preschool programs, they give little guidance for selecting from among the ever-expanding list of available preschool curricula. For example, the State of Georgia, which has a universal pre-K program, allows providers to choose among seven different nationally available curricula. There is little evidence that would allow providers to make an informed choice among these curricula. New York, another state providing universal pre-K, does not provide a list of approved curricula. Instead it requires that approved providers deliver a curriculum that conforms to general guidelines such as meeting “the social, cognitive, linguistic, emotional, cultural and physical needs of all eligible children.” However, there is little evidence for choosing among curriculum options based on such guidelines. The Preschool Curriculum Evaluation Research (PCER) grants are intended to address the lack of rigorous, systematic evaluation of preschool curricula that are currently in use for children in the pre-K years.

PCER is intended to build on recent initiatives aimed at evaluating the preschool experiences of children. In 1997, Head Start undertook The Family and Child Experiences Survey (FACES), a large-scale national study of Head Start programs. FACES is a national longitudinal study of the cognitive, social, emotional, and physical development of children; the characteristics, well-being, and accomplishments of their families; the observed characteristics of their classrooms; and the characteristics, needs, and opinions of their teachers and other program staff. In addition, the Early Childhood Longitudinal Survey-Kindergarten (ECLS-K) and the Early Childhood Longitudinal Survey-Birth Cohort (ECLS-B), both ongoing projects of the National Center for Education Statistics within OERI, offer additional insight into how to measure family, school, and individual variables using a set of measures that overlap substantially with the FACES measures. The FACES measures will form the core set of indicators used in PCER funded projects.

The outcomes of greatest interest to PCER are those skills that are most highly predictive of academic success in the early years of elementary school and that are most amenable to influence by factors within the realm of classroom curricula and practice. These outcomes include language development, pre-reading and pre-math abilities, cognition, general knowledge, and social competence.

The curricula of primary interest to PCER are those with sufficient standardized training procedures and published curriculum materials to support implementation of the curriculum by entities other than and at a distance from the curriculum developers. In addition, the curricula of interest to PCER are those that focus on the child outcomes described above, and those with instructional approaches that find support in the scientific literature on learning and instruction. These will be existing curricula that are already in use in a number of sites. PCER is not intended to support the development of new curricula; that will be the focus of other programs of research to be sponsored by the Interagency Task Force.

Program Description

Grantees will coordinate with a national evaluation contractor (to be funded separately by OERI) to ensure that evaluations carried out in different locations follow consistent protocols and use a core set of comparable measures. The national contractor will be responsible for collecting pre- and post-intervention data and kindergarten and first grade follow-up data on children and classrooms, and for analysis and reporting of these data across program sites. This type of centralized data coordination mechanism has been found to be important in maximizing the systematic collection of cross-site knowledge obtained from multiple research projects. The cross-site data will be returned to applicants in a timely manner to serve as a basis for local analyses (as part of any complementary research), as well as eventually made available in public use datasets. Additional local measures and data analysis of implementation and outcomes may be carried out by the applicants as part of complementary research projects (described subsequently) using program funds. This arrangement allows applicants to consider more intensive data collection approaches to augment the available core measures. Cooperative agreement budgets should include costs of data collection for local measures, assuming a common core of data to be provided by the external data collection center without cost to the grantee.

The core set of evaluation data collected by the national contractor will utilize FACES instruments to measure both classroom and family characteristics and practices, and child outcomes. Children, parents and preschool staff participate in data collection. In addition, the preschool classrooms are assessed by outside observers. The FACES instruments cover a range of areas. The primary focus is on child outcomes, including cognitive outcomes assessed using standard instruments such as the Woodcock-Johnson Letter Word Identification, and socio-emotional outcomes such as social skills ratings completed by the teacher. For purposes of calculating participant burden, the current FACES child direct assessment is completed in approximately 30 minutes per child. For a full listing of the measures used in the 1997-2000 FACES study, please see http://www2.acf.dhhs.gov/programs/hsb/hsreac/faces/instruments.html.

Applicants must consider methods for assessing the characteristics of the preschool program(s), including those programs that serve as controls. Such methods could examine such factors as allocation of time during the preschool day, nature of interactions between children and teacher, and fidelity of the curriculum implementation.

Applicants may also propose complementary research studies to further our knowledge of the mechanisms by which curricula support children's learning, including the development of new instruments to measure processes related to the effects of curriculum and instruction on learning and development in young children. The complementary research may address a range of issues related broadly to curriculum effectiveness such as the impact of curriculum implementation on preschool staff, the influence of individual differences in children on program impact, the development of instrumentation, or other related topics.

The complementary research studies are intended to supplement, complement and enrich the core evaluation. Investigators will have an opportunity to explore mediating events or the theoretical pathways that explain the results that are obtained in the evaluation. In addition, complementary research provides an opportunity to identify outcomes that, because of data constraints, are not explored in the core evaluation or are specific to an individual site. It also expands the possibilities for multiple measures of the same construct, and for the development of new measures.

Two areas of complementary research are of particular interest:

(1) Studies that address how individual or background differences in children interact with the curriculum to influence developmental outcomes. Such studies would address the question, for which children under which conditions is the curriculum most successful?

(2) Studies that compare different versions of the curriculum or different approaches to implementation in order to identify key features of the curriculum and approaches that might improve effectiveness and ease of implementation. Such studies would address the question, under what circumstances does the curriculum achieve the greatest impact?

Specific complementary research questions might include:

Individual differences: How are age, gender, language, disability, and other key child characteristics, as well as cultural issues, addressed? How do family characteristics interact with the child's preschool experience to influence school readiness? To what populations are evaluation results likely to be generalizable? For which children is the curriculum most effective/least effective and why?

Replication/dissemination: What variations in context, target populations, and program delivery might affect implementation in other sites, and how might they affect the outcomes of the curriculum? To what extent does the curriculum have to be modified to adapt to local conditions? What are the key elements that have to be sustained to maintain effectiveness of the curriculum?

Classroom, program, and community context: What are the structures and supports necessary to implement the curriculum? What are the key activities that are conducted to include or gain support from community stakeholders and collaborators, with program administrators and policy councils, with classroom teachers and other staff, with parents of children in the classrooms? What are the contextual variables that might influence how the curriculum is implemented: e.g., culture, neighborhood characteristics, organizational climate, level of poverty in the community, teacher backgrounds, education, motivation, skills and attitudes, levels of support (financial and otherwise), competing priorities within a program or classroom, management and organizational structures? What are the relationships among the individuals who are stakeholders and/or participants in the curriculum?

Grantees will be required to propose a research and evaluation work plan that will be negotiated between the applicant and OERI and updated on a yearly basis. The work plan proposed by the applicant will include details of how the evaluation will be implemented, e.g., the number of classrooms, their characteristics, their existing approach, how training will be provided, how randomization will occur, how informed consent will be obtained. A work plan is also necessary for the complementary research, if such research is proposed by the applicant. The evaluation portion of each PCER's proposed work plan will be reviewed by OERI and the national evaluation contractor before the final evaluation plan is approved.

Time Frame

PCER projects will be funded for up to a four-year period. Evaluation designs should include both short term and long term outcomes. Initial results are expected at the end of the first year of curriculum implementation. Long term outcomes should include follow-up into kindergarten and first grade. Applicants should plan for an implementation in pre-K classrooms in year 1, follow-up into kindergarten in year 2, follow-up into first grade in year 3, and completion of data analysis and reports in year four. Complementary research designs could involve continued pre-K implementations and ongoing research in the pre-K setting for some or all years of the grant, while children in the first cohort are being followed up into first grade.

In the event that a PCER project does not generate meaningful differences between intervention and control classrooms in terms of children's outcomes at the end of year 1, and when this lack of effect appears to be attributable to unforeseen and remediable problems in implementation, grantees will be given a second year of funding to repeat a pre-K implementation of their selected curriculum. When curriculum effects on children's outcomes are not obtained at the end of the pre-K year, and this lack of effect appears to be a valid indicator of program ineffectiveness, grantees will be encouraged to implement and evaluate curricula that have proven effective as deployed by other grantees.

Type of Awards

OERI will use a cooperative agreement mechanism that allows substantial Federal involvement in the activities undertaken with Federal financial support. Details of the responsibilities, relationships and governance of the cooperative agreement will be elaborated in the terms and conditions of the award. The specific responsibilities of the Federal staff and project staff will be identified and agreed upon prior to the award of each cooperative agreement.

Priority

This competition focuses on projects designed to meet the following absolute priority. Under 34 CFR 75.105(c)(3) we consider only applications that meet this priority.

Absolute Priority

The preschool curriculum evaluation research grants are designed to determine through a randomized clinical trial whether one or more curricula produce educationally meaningful effects on children's outcomes. Each grantee must implement one or more identified pre-K curricula, including attention to fidelity of the curriculum implementation; and coordinate with a national contractor the assessment of children and classrooms in the fall and spring of the pre-K year, and in the spring of the kindergarten and first grade year.

Specifically, successful applicants must:

(1) Obtain agreement of a sufficient number of preschool sites to participate in the study;

(2) Obtain agreement of the cooperating sites to random assignment of children or classrooms to the curriculum being evaluated versus one or more comparison approaches;

(3) Obtain informed consent of parents of children participating in the study, and all teachers and other administrators from whom data will be collected;

(4) Provide all necessary materials and professional development to teachers and staff to implement the curriculum to be evaluated in the intervention classrooms;

(5) Make all on-site arrangements necessary for the national contractor to conduct assessments of participating children and classrooms;

(6) Obtain parent and teacher interview data; and

(7) Provide an on-site coordinator to manage all aspects of data collection, curriculum implementation, and interaction with the national contractor.

Complementary research projects may be embedded within the evaluation design or include additional data collection activities. However, activities related to the complementary research must not compromise the core evaluation responsibilities and are not required in order to receive funding.

Applicants who are research organizations are free to involve curriculum developers or distributors in the project as they think best, from having the curriculum developers as full partners in their proposals to utilizing off-the-shelf curriculum materials without involvement of the developer or publisher. Involvement of the curriculum developer or distributor must not jeopardize the objectivity of the evaluation and must not involve a level of professional training or support for the curriculum that rises above that available to ordinary adopters of the curriculum. Applicants who are not research organizations will need to obtain the services of at least one consultant who is an established researcher and who has committed enough time to the project to assure the integrity of the local evaluation and to participate in all required meetings. Applicants who are commercial curriculum developers should indicate in the budget summary the value of any nonfederal resources that will be devoted to the research project, such as their curriculum products.

Applicants must employ random assignment in the evaluation design. Preschool program(s) that are to be the sites for curriculum implementation must agree to cooperate fully with the random assignment as a condition for the applicant to receive an award under this announcement. In order to facilitate random assignment, applicants are encouraged to consider the use of incentives for schools and families. These may include: Compensation for additional preschool staff time required to cooperate with the research effort; funding for a new classroom; provision of additional resources to enable a program to conduct new activities; securing vehicles for transportation; stipends to families, etc.

In proposing a curriculum for evaluation and in the evaluation design, applicants should consider the following questions:

(1) What scientific research supports the use of this particular curriculum to improve school readiness or other identified outcomes?

(2) What levels of staff qualifications are required?

(3) What training and materials are needed?

(4) What are the costs of the curriculum in terms of materials and professional training and support?

(5) How is classroom or program practice to be affected?

(6) How will fidelity of the curriculum be maintained over the program year?

(7) What are possible program staff or family barriers to acceptance?

Applicants need to pay special attention to the nature of the curriculum or approach that will be used in control classrooms. Successful applicants for this initial round of PCER awards are not expected to compare different well-articulated well-implemented preschool curricula, though such applications are not discouraged. Rather, we expect the typical applicant to propose to implement a well articulated, well-implemented curriculum in preschools in which the prevailing approach is a home grown, garden variety, unlabeled preschool experience that is short on specific instructional goals and that lacks a detailed curriculum. That existing practice would continue in the classrooms randomized into the control condition. Applicants who propose a control condition in which the curriculum is one that might well be proposed as the intervention condition by another applicant should provide a convincing rationale for their intervention being likely to improve children's outcomes compared with the known effects of the curriculum used in the control condition. In this regard and for all the projects, the ethics of random assignment require a reasonable assumption that children in the intervention classrooms will experience neutral to positive outcomes compared with children in the control classrooms, rather than negative outcomes.

Because children who are most unprepared for entry into school are found disproportionately among low-income households, and because variations in the quality of preschool programs appear to have their greatest effects among such children, applicants must either focus on preschools that serve children from low-income backgrounds or assure that such children are present in significant numbers within the preschool classrooms that are sampled.

Applicants will follow children who participate in studies of PCER curricula that generate educationally meaningful effects at the end of the pre-K year into kindergarten and first grade. Assessment of children at follow-up in both the intervention and control conditions will be the responsibility of the national contractor. However, all arrangements to allow such assessments to occur, including obtaining parent permission and negotiating access to children for testing in their schools, will be the responsibility of the successful applicant. Applicants must address how they will provide access to children for follow-up testing.

Applicants must be able to guarantee access to a minimum of 10 classrooms with a total of 150 children. Children included must be in the age range such that they would be eligible for entrance into public kindergarten in the following year. In addition, the evaluation design must include attention to the following:

(1) Description of the control condition and the intervention condition(s).

(2) Explanation of procedures for random assignment and discussion of procedures for tracking fidelity to the assignment and potential sources of contamination.

(3) Logic of sampling so as to capture, to the degree possible, diversity in the preschool population studied. Core variables to consider for capturing diversity include: race, ethnicity/language status; household income; parental education.

(4) Discussion of possible variations in the structure of the participating preschool program(s) (part-day or full day, public or private, profit or non-profit, etc.) and how these variations will be taken into consideration in the evaluation design.

Applicants must provide a letter of cooperation from participating preschool programs for the purposes of conducting the research, with the responsibilities of the preschool program clearly indicated and accepted in the letter of cooperation. The applicant must be willing to work with the national evaluation contractor for the collection of cross-site data, in coordination with any local data collection activities. The principal investigator must agree to attend up to four meetings each year of the grantees, contractor, and Federal staff. The budget should reflect travel funds for such purposes.

Waiver of Proposed Rulemaking

Under the Administrative Procedure Act (5 U.S.C. 553) the Department generally offers interested parties the opportunity to comment on proposed regulations. However, in order to make timely grant awards in FY 2002, the Secretary has decided to issue this application notice without first publishing a proposed priority for public comment. These regulations will apply to the FY 2002 grant competition only. The Secretary takes this action under section 437(d)(1) of the General Education Provisions Act.

OERI is conducting its first grant competition under the national research institutes authority for the purpose of funding projects that will implement rigorous evaluations of classroom curricula currently in use for the pre-K years (20 U.S.C. 6031). This new program of research is intended to address the critical question of which curricula produce or contribute to educationally meaningful outcomes for children of this age. As noted earlier, the evidence that would allow informed choices of classroom curricula for early childhood programs is weak or non-existent. Thus, for the first time, OERI is soliciting applications that will address the lack of rigorous, systematic study and evaluation of existing curricula.

In a separate Federal Register notice to be published in the near future, the Assistant Secretary will ask for public comment on the priority for the purpose of designing and conducting future grant competitions for this research.

FOR APPLICATIONS AND FURTHER INFORMATION CONTACT: Heidi Schweingruber, U.S. Department of Education, 555 New Jersey Avenue, room 602-O, Washington, DC 20208-5501. Telephone: (202) 219-2040 or via Internet: Heidi.Schweingruber@ed.gov.

If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting Heidi Schweingruber. However, the Department is not able to reproduce in an alternative format the standard forms included in the application package.

Pilot Project for Electronic Submission of Applications

In FY 2002, the U.S. Department of Education is continuing to expand its pilot project of electronic submission of applications to include additional formula grant programs and additional discretionary grant competitions. The Preschool Curriculum Evaluation Research Grant Program (CFDA 84.305J) is one of the programs included in the pilot project. If you are an applicant under the PCER program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

We may request that you give us original signatures on all other forms at a later date.

You may access the electronic grant application for the PCER Program at: http://e-grants.ed.gov.

Due to software upgrades, it is anticipated that the e-Application software will be unavailable for several days in mid-January. The tentative dates for this system down time are January 11-21, 2002. Please check this site for future updates on system availability.

We have included additional information about the e-APPLICATION pilot project (see Parity Guidelines between Paper and Electronic Applications) in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6031.

Dated: December 13, 2001.
Grover J. Whitehurst,
Assistant Secretary for Educational, Research and Improvement.

[FR Doc. 01-31127 Filed 12-14-01; 8:45 am]

BILLING CODE 4000-01-U